FEDERAL COMMUNICATIONS COMMISSION

47 CFR Part 73

[DA 11-932; MB Docket No. 09-219; RM-11581]

Radio Broadcasting Services; Brackettville, TX

AGENCY: Federal Communications Commission.

ACTION: Final rule.

SUMMARY: The Audio Division grants a Petition for Rule Making issued at the request of RF Services, Inc., licensee of a new FM station at Rocksprings, Texas, that requests the deletion of vacant Channel 234A at Brackettville to accommodate the hybrid application, which requests the substitution of Channel 234C3 for Channel 235C3 at Rocksprings, Texas, reallotment of Channel 234C3 from Rocksprings, to Brackettville, Texas, and modification of the new FM station authorization. See File No. BNPH-20091019AFF.

DATES: Effective July 5, 2011.

ADDRESSES: Secretary, Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 09-219, adopted May 19, 2011, and released May 20, 2011. The Notice of Proposed Rule Making proposed the deletion of vacant Channel 234A at Brackettville. See 75 FR 4037, published January 26, 2010. The full text of this Commission decision is available for inspection and copying during normal business hours in the Commission's Reference Information Center, 445 12th Street, SW., Washington, DC 20554. The complete text of this decision may also be purchased from the Commission's duplicating contractor, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336, and 339.

§ 73.202 [Amended]

2. Section 73.202(b), the Table of FM Allotments under Texas, is amended by removing Brackettville, Channel 234A.

[FR Doc. 2011-15610 Filed 6-21-11; 8:45 am]

BILLING CODE 6712-01-P